DEPARTMENT OF COMMERCE

National Oceanic and Atmospheric Administration

50 CFR Part 648

[Docket No. 000119014-0137-02; I.D. 080700C]

Fisheries of the Northeastern United States; Summer Flounder, Scup, and Black Sea Bass Fisheries; Adjustments to the 2000 Summer Flounder, Scup and Black Sea Bass Commercial Quotas

AGENCY: National Marine Fisheries Service (NMFS), National Oceanic and Atmospheric Administration (NOAA), Commerce.

ACTION: Commercial quota adjustment for 2000; correction.

SUMMARY: NMFS corrects the 2000 commercial summer flounder quota allocated to the State of Maryland. This action complies with the regulations that implement the Fishery Management Plan for the Summer Flounder, Scup, and Black Sea Bass Fisheries (FMP), which specify that summer flounder landings in excess of a given state’s individual commercial quota be deducted from that state’s quota for the following year. The intent of this action is to correct for the deduction of an overage from the Maryland allocation that was made in error.

DATES: Effective November 20, 2000, through December 31, 2000.

FOR FURTHER INFORMATION CONTACT: Paul H. Jones, Fisheries Policy Analyst, (978) 281-9273, fax 978-281-9135, e-mail paul.h.jones@noaa.gov.

SUPPLEMENTARY INFORMATION:

Background

On August 18, 2000 (65 FR 50463), NMFS announced preliminary adjustments to the 2000 summer flounder commercial quotas based on updated 1999 landings data. However, after the publication of that adjustment, NMFS discovered that some summer flounder landings reported by the State of Maryland in 1999 were double-counted, meaning that the final 1999 landings did not exceed that state’s quota.

Therefore, this document corrects the entries for Maryland specified in Table 1, Summer Flounder Preliminary 1999 Landings and Overages by State; and Table 2, Summer Flounder Preliminary Adjusted 2000 Quotas by State, as published at 65 FR 50463, August 18, 2000, (FR Doc. 00-21100).

Corrections

Table 1. Summer Flounder Preliminary 1999 Landings and Overages by State, is corrected as follows:

On page 50464, in the fourth column, under the heading “Preliminary 1999 Landings”, and under the subheading “Lb”, in the ninth line, “234,358” is corrected to read “200,997”; in the last line, the total “10,653,199” is corrected to read “10,619,838”, and in the fifth column of the table, under the subheading “Kg”, in the ninth line, “106,303” is corrected to read “91,172”; in the last line, the total “4,832,209” is corrected to read “4,817,159”. In the sixth column of the table, under the heading “1999 Overage”, and under the subheading “Lb”, in the ninth line, “32,004” is corrected to read “0”; and in the seventh column of the table, under the subheading “Kg”, in the ninth line, “14,517” is corrected to read “0”.

Table 2. Summer Flounder Preliminary Adjusted 2000 Quotas by State, is corrected as follows:

On page 50464, in the fourth column, under the heading “2000 Adjusted Quota”, and under the subheading “Lb”, in the ninth line, “194,564” is corrected to read “226,568”; in the last line, the total “10,882,897” is corrected to read “10,914,901”; and in the fifth column of the table, under the subheading “Kg”, in the ninth line, “88,253” is corrected to read “102,771”; in the last line, the total “4,936,398” is corrected to read “4,950,999”.

Classification

This action is required by 50 CFR part 648 and is exempt from review under Executive Order 12866.

Authority: 16 U.S.C. 1801 et seq.

Dated: November 15, 2000.
Bruce C. Morehead,
Acting Director, Office of Sustainable Fisheries, National Marine Fisheries Service.

[FR Doc. 00-29778 Filed 11-20-00; 8:45 am]

BILLING CODE 3510-22-S